DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by December 26, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Forest Products Removal Permits and Contracts.

OMB Control Number: 0596-0085.

Summary of Collection: The Food, Conservation, and Energy Act of 2008 (Pub. L. 110-246, 122 Stat. 1651) [hereinafter the “2008 Farm Bill”], section 8105 authorizes that the Secretary of Agriculture may provide, free of charge, to federally recognized Indian Tribes (Indian Tribes) trees, portions of trees, or forest products from National Forest System (NFS) lands for noncommercial traditional and cultural purposes. Section 8105 of the 2008 Farm Bill has also been codified in 25 U.S.C. Chapter 32A—Cultural and Heritage Cooperation Authority, section 3055 Forest Products for Traditional and Cultural Purposes. Additionally, Forest Service implementing regulations have been codified at 36 CFR 223.15 and FS issued corresponding permanent policy in its directive system at FSH 2409.18, 82.5. Per FSH 2409.18, 82.53, “Requests for trees, portions of trees, or forest products made under 36 CFR 223.15 must be submitted to the local Forest Service District Ranger's office(s) in writing. Requests may be made: (a) Directly by a tribal official(s) who has been authorized by the Indian tribe to make such requests; or (b) By providing a copy of a formal resolution approved by the tribal council or other governing body of the Indian Tribe. . . Requests for trees, portions of trees, and forest products made under 36 CFR 223.15 must be directed to the appropriate Forest Service District Ranger(s) office from which the items are being requested. Tribal officials are encouraged to explain their requests to the Regional Forester or designated Forest Officer, and if necessary, how the request fits a traditional and cultural purpose.

When an Indian Tribe requests forest products located on two or more National Forests, authorized tribal officials should notify each of the affected Forest Service District Ranger's offices of the requests made on other forests. (Reference 36 CFR 223.15(d).)” Individuals and businesses wishing to remove forest products from National Forest System lands must request a permit or contract. 16 U.S.C. 551 requires the promulgation of regulations to regulate forest use and prevent destruction of the forests. Regulations at 36 CFR 223.1 and 223.2 govern the sale of forest products such as Christmas trees, pinecones, moss, and mushrooms. Regulations at 36 CFR 223.5-223.11 set forth conditions under which free use of forest products may be obtained by individuals or organizations. Regulations at 36 CFR 223.15 set forth conditions under which federally recognized Indian Tribes may request trees, portions of trees, or forest products (free of charge) for their traditional and cultural purposes. 16 U.S.C. 607 provides that a defense against trespass is that the forest products be removed under the regulations. These statutes and the regulations apply to 16 U.S.C. 477, 492, and 607a. Regulations at 36 CFR 261.6 require persons to obtain permits or contracts to remove special forest products from National Forest System lands. Both the Forest Service (FS) and Department of the Interior, Bureau of Land Management (BLM) will use the Forest Products Removal Permit and Cash Receipt to collect information.

Need and Use of the Information: The collected information is required to determine if the requester meets the criteria for free-use or sale of forest products as authorized by regulations, and to ensure that the permittee/contractor complies with regulations and terms of the permit or contract. This information allows Agency compliance personnel to identify permittees in the field. Identification information is used to verify names and addresses, to record the individuals, and businesses obtaining forest products, and to record the Indian Tribes obtaining free use of trees, portions of trees, or forest products under the authority of section 8105 of the 2008 Farm Bill.

This information is necessary to ensure that individuals and businesses have not received product values in excess of the amount allowed by regulation in any one fiscal year. Law enforcement and other personnel conducting field compliance checks use the information to identify permittees, ensure that the person harvesting a forest product has a permit during the forest product collection, and to ensure that the forest product collection is being performed in the area described on the permit.

Description of Respondents: Individuals or households; Business or other for-profit; State, Local or Tribal Government.

Number of Respondents: 131,576.

Frequency of Responses: Reporting: On occasion; Recordkeeping.

Total Burden Hours: 54,812.

Levi S. Harrell,
Departmental Information Collection Clearance Officer.

[FR Doc. 2025-21220 Filed 11-25-25; 8:45 am]

BILLING CODE 3411-15-P